NUCLEAR REGULATORY COMMISSION

[Docket No. 52-043; NRC-2014-0149]

Early Site Permit for the PSEG Site

AGENCY: Nuclear Regulatory Commission.

ACTION: Final environmental impact statement; issuance.

SUMMARY: The U.S. Nuclear Regulatory Commission (NRC) and the U.S. Army Corps of Engineers (USACE), Philadelphia District, have completed the final environmental impact statement (EIS), NUREG-2168, “Environmental Impact Statement for an Early Site Permit (ESP) at the PSEG Site: Final Report” for the PSEG Site ESP application in accordance with the National Environmental Policy Act of 1969, as amended. The USACE is cooperating agency with the NRC in the preparation of information in the final EIS for use in both agencies' decision-making processes. The site is located in Salem County, New Jersey.

DATES: The final EIS is available as of November 13, 2015.

ADDRESSES: Please refer to Docket ID NRC-2014-0149, when contacting the NRC about the availability of information regarding this document. You may obtain publicly-available information related to this action by the following methods:

• Federal Rulemaking Web site: Go to http://www.regulations.gov and search for Docket ID NRC-2014-0149. Address questions about NRC dockets to Carol Gallagher; telephone: 301-415-3463; email: Carol.Gallagher@nrc.gov. For technical questions, contact the individual listed in the FOR FURTHER INFORMATION CONTACT section of this document.

• NRC'S Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final EIS and an accompanying reader's guide are available in ADAMS under Accession No. ML15176A444.

• NRC's Public Document Room: You may examine and purchase copies of public documents at the NRC's PDR, Room O1-F21, One White Flint North, 11555 Rockville Pike, Rockville, Maryland 20852.

FOR FURTHER INFORMATION CONTACT: Allen Fetter, Office of New Reactors, U.S. Nuclear Regulatory Commission, Washington, DC 20555-0001, telephone: 301-415-8556, email: Allen.Fetter@nrc.gov.

SUPPLEMENTARY INFORMATION:

I. Background

In accordance with § 51.118 of title 10 of the Code of Federal Regulations, the NRC is issuing the NUREG-2168, “Environmental Impact Statement for an Early Site Permit at the PSEG Site: Final Report.” A notice of availability of the draft EIS was published by the NRC in the Federal Register on August 22, 2014 (79 FR 49820) and also noticed by the U.S. Environmental Protection Agency on August 29, 2014 (79 FR 49774). The public comment period was extended on the draft EIS until December 6, 2014, and the comments received are addressed in the final EIS. The final EIS is available for public inspection as indicated in the ADDRESSES section of this document, and at the Salem Free Public Library, 112 West Broadway, Salem, New Jersey, 08079. The final EIS also can be accessed online at the PSEG ESP specific Web page at http://www.nrc.gov/reactors/new-reactors/esp/pseg.html.

The final EIS also supports the USACE's review of the Department of the Army permit application for certain construction activities on the PSEG site. The USACE's Department of the Army permit application number for the PSEG site project is CENAP-OP-R-2009-0157-45. The USACE's Public Interest Review will be part of its Record of Decision and is not addressed in the final EIS.

II. Discussion

As discussed in the final EIS, the NRC staff's recommendation related to the environmental aspects of the proposed action is that the ESP should be issued. This recommendation is based on: (1) The environmental report (ER) submitted by PSEG Power, LLC, and PSEG Nuclear, LLC (PSEG), as revised; (2) consultation with Federal, State, Tribal and local agencies; (3) the NRC staff's independent review; (4) the NRC staff's consideration of comments received during the environmental review; and (5) the assessments summarized in the final EIS, including the potential mitigation measures identified in the ER and in the final EIS. In addition, in making its preliminary recommendation, the NRC staff has concluded that there are no environmentally preferable or obviously superior sites in the region of interest.

Dated at Rockville, Maryland, this 13th day of November, 2015.
For the Nuclear Regulatory Commission.
Frank Akstulewicz,
Director, Division of New Reactor Licensing, Office of New Reactors.

[FR Doc. 2015-29698 Filed 11-19-15; 8:45 am]

BILLING CODE 7590-01-P